INTERNATIONAL BOUNDARY AND WATER COMMISSION; UNITED STATES AND MEXICO

United States Section; Final Programmatic Environmental Impact Statement for Long-Term Improvements to the USIBWC Rio Grande Flood Control Projects Along the Texas-Mexico Border

AGENCY: United States Section, International Boundary and Water Commission (USIBWC).

ACTION: Notice of availability for the record of decision (ROD).

SUMMARY: This notice is provided in accordance with 40 Code of Federal Regulations (CFR) parts 1500-1508 of the National Environmental Policy Act (NEPA), and USIBWC procedures for implementing NEPA. The USIBWC anticipates the need to improve functionality of three flood control projects located in the Rio Grande along the Texas-Mexico border. Potential improvement measures are mainly associated with the project core mission of flood protection, boundary stabilization, and water delivery. Additional measures under consideration are intended to improve water use, quality, and conservation, as well as measures supporting local or regional initiatives for multipurpose use of the projects for wildlife habitat development, and improved environmental conditions.

A Programmatic Environmental Impact Statement (PEIS) was prepared to evaluate potential consequences of three action alternatives under consideration for long-term improvement of the flood control projects. The USIBWC will apply the programmatic evaluation as an overall guidance for future evaluations of individual projects, including both those currently envisioned at a conceptual level and those whose implementation is not currently anticipated but would be possible within a 20-year timeframe.

The Multipurpose Project Management Alternative was adopted among the three action alternatives as the preferred option for long-term improvements to the Rio Grande flood control projects. In implementing the preferred alternative, the USIBWC will continue to improve functionality of the flood control projects to meet its mandate for flood control, water delivery, and boundary stabilization, while supporting initiatives for improvement of environmental conditions and water resources utilization.

FOR FURTHER INFORMATION CONTACT: Mr. Daniel Borunda, Environmental Protection Specialist, Environmental Management Division, USIBWC, 4171 North Mesa Street, C-100, El Paso, Texas 79902 or e-mail: danielborunda@ibwc.state.gov.

SUPPLEMENTARY INFORMATION: The USIBWC anticipates the need to improve capabilities or functionality of three flood control projects (FCP) located in the Rio Grande along the Texas-Mexico border: The Rectification FCP, extending 84.4 miles along the Rio Grande, downstream from American Diversion Dam in El Paso to Fort Quitman, Texas; the Presidio-Ojinaga FCP extending over 13.1 river miles of the Rio Grande near Presidio, Texas; and the Lower Rio Grande FCP that extends 186 river miles on the Rio Grande, from Peñitas, Texas to the Gulf of Mexico, and includes 120 miles of interior floodways. These projects were constructed to provide flood protection in urban, suburban, and agricultural areas in the United States and Mexico, facilitate water delivery, and stabilize the international river boundary.

Measures identified for potential implementation were organized into three action alternatives focusing on improvements in operation and maintenance (O&M) practices and project functionality; improvements in water quality and water utilization; and additional measures for multipurpose use of the projects beyond their core mission of flood control, water delivery and boundary preservation. Multipurpose use would include regional initiatives for improvement of habitat and environmental conditions proposed by federal agencies, local governments, and other organizations.

The USIBWC prepared a Programmatic Environmental Impact Statement, in cooperation with the United States Bureau of Reclamation, United States Fish and Wildlife Service, and United States Army Corps of Engineers, to analyze potential effects of three action alternatives for improvement of the three Rio Grande FCPs. The programmatic evaluation will be used as an overall guidance for evaluation of future improvement projects, both those already identified at a conceptual level or those whose implementation is possible within a 20-year timeframe. Once an improvement project is developed for implementation, site-specific environmental documentation will be prepared on the basis of PEIS findings and project specifications.

A Draft PEIS was released for a 45-day public review period on August 10, 2007. Nineteen responses were received during the review period, ten from regulatory agencies, six from various organizations, and three from individual reviewers. Oral comments were also received from 12 presenters during public hearings held in the Cities of El Paso, Presidio, and McAllen, Texas on August 21, 22 and 28, 2007, respectively. The Notice of Availability of the Final PEIS was published in the Federal Register by the Environmental Protection Agency on January 4, 2008.

Finding: Because of its potential to improve flood control and water resources management, as well as a greater potential for improvement of biological resources and environmental conditions, the MPM Alternative was identified as the preferred option for long-term improvements to the Rectification FCP, Presidio FCP, and Lower Rio Grande FCP. In implementing this alternative, the USIBWC will continue to improve functionality and maintenance of the three Rio Grande flood control projects while supporting initiatives for improvements in environmental conditions and utilization of water resources.

Availability: Single hard copies of the Record of Decision may be obtained by request at the above address. Electronic copies may also be obtained from the USIBWC Home Page at http://www.ibwc.state.gov.

Dated: February 25, 2008.
Susan Daniel,
General Counsel.

[FR Doc. E8-3999 Filed 3-3-08; 8:45 am]

BILLING CODE 7010-01-P